DEPARTMENT OF TRANSPORTATION

Pipeline and Hazardous Materials Safety Administration

[Docket No. PHMSA-06-25735; Notice 1]

Pipeline Safety: Request for Waiver; Sabine Pass LNG

AGENCY: Pipeline and Hazardous Materials Safety Administration (PHMSA); U.S. Department of Transportation (DOT).

ACTION: Notice of intent to consider waiver request.

SUMMARY: Sabine Pass Liquefied Natural Gas (SPLNG) facility requests a waiver of compliance from the regulation that requires every Liquefied Natural Gas (LNG) facility constructed after March 31, 2000 to comply with the National Fire Protection Association's standard 59A (NFPA 59A), 2001 Edition.

DATES: Persons interested in submitting written comments on the waiver request described in this notice must do so by October 27, 2006. Late filed comments will be considered as far as practicable.

ADDRESSES: You may submit written comments by mailing or delivering an original and two copies to the Dockets Facility, U.S. Department of Transportation (DOT), Room PL-401, 400 Seventh Street, SW., Washington, DC 20590-0001. The Dockets Facility is open from 9 a.m. to 5 p.m., Monday through Friday, except on Federal holidays when the facility is closed. Alternatively, you may submit written comments to the docket electronically at the following Web address: http://dms.dot.gov. All written comments should identify the docket and notice number stated in the heading of this notice. Anyone who wants confirmation of mailed comments must include a self-addressed stamped postcard. To file written comments electronically, after logging on to http://dms.dot.gov, click on “Comment/Submissions.” You can also read comments and other material in the docket. General information about the Federal pipeline safety program is available at http://phmsa.dot.gov.

Anyone is able to search the electronic form of all comments received into any of our dockets by the name of the individual submitting the comment (or signing the comment, if submitted on behalf of an association, business, labor union, etc.). You may review DOT's complete privacy Act Statement in the Federal Register published on April 11, 2000 (70 FR 19477) or you may visit http://dms.dot.gov.

FOR FURTHER INFORMATION CONTACT: James Reynolds by telephone at 202-366-2786, by fax at 202-366-4566, by mail at DOT, Pipeline and Hazardous Materials Safety Administration (PHMSA), 400 7th Street, SW., Room 2103, Washington, DC 20590, or by e-mail at james.reynolds@dot.gov.

SUPPLEMENTARY INFORMATION:

Background

SPLNG requests a waiver of compliance from the regulatory requirement at 49 CFR 193.2301. This regulation requires each LNG facility constructed after March 31, 2000, to comply with 49 CFR Part 193 and paragraph 4.2.1 in NFPA 59A, 2001 Edition.

NFPA 59A requires that welded containers designed for not more than 15 pounds per square inch gauge (psig) comply with the eighth edition, 1990, of American Petroleum Institute standard 620 (API 620), Design and Construction of Large, Welded, Low-Pressure Storage Tanks (Appendix Q). The Eighth Edition of API 620 requires inspection according to Appendix Q, which calls for the full radiographic examination of all vertical and horizontal butt welds associated with the container.

SPLNG is proposing to use the 2002 Tenth Edition, Addendum 1, of API 620. This Edition allows for ultrasonic examination, instead of radiography, as an acceptable alternative to examining butt welds associated with the container. SPLNG proposes to use ultrasonic examination on its project which consists of full semi-automated and manual ultrasonic examination using shear wave probes. The examination also consists of a volumetric ultrasonic examination using a combination of creep wave probes and focused angled longitudinal wave probes.

SPLNG asserts that ultrasonic examination has several advantages over radiographic examination, namely it:

• Produces faster examination rates with equal reliability;

• Yields higher weld productivity rates and overall lower project cost;

• Employs a linear scanning process and allows both sides of the weld to be examined simultaneously;

• Offers results reviewable by personnel both on-site and off-site;

• Utilizes inspection data which can be stored, analyzed, and shared digitally;

• Eliminates hazardous materials disposal issues; and

• Improves weld inspection personnel safety.

For the reasons stated, SPLNG is requesting a waiver from 49 CFR 193.2301 which requires compliance with 49 CFR part 193 and NFPA 59A. Moreover, SPLNG is asking that it be allowed to use the ultrasonic examination method in the Tenth Edition, Addendum 1, of API 620 instead of the radiographic examination method in the Eighth Edition of API 620.

The NFPA 59A Technical Committee recently approved and recommended the acceptance of the 2002, Tenth Edition, Addendum 1 of API 620 with three limitations. PHMSA has only incorporated by reference the 2001 Edition of NFPA 59A, therefore a waiver is required for the 2006 Edition.

PHMSA will consider SPLNG's waiver request and whether SPLNG's proposal will yield an equivalent or greater degree of safety than that currently provided by the regulations. This notice is PHMSA's only request for public comment before making a decision. After considering any comments received, PHMSA's will make a determination to grant SPLNG's waiver request as proposed or with modifications and conditions or deny SPLNG's request. If the waiver is granted and PHMSA subsequently determines that the effect of the waiver is inconsistent with pipeline safety, PHMSA may impose additional conditions on the operator or revoke the waiver at its sole discretion.

Issued in Washington, DC on September 19, 2006.
Theodore L. Willke,
Acting Associate Administrator for Pipeline Safety.

[FR Doc. E6-15880 Filed 9-26-06; 8:45 am]

BILLING CODE 4910-60-P